ENVIRONMENTAL PROTECTION AGENCY

[EPA-HQ-OPP-2024-0154; FRL-11988-01-OCSPP]

Dicamba; Pesticide Product Registration; Notice of Receipt of Application for New Use; Request for Comment

AGENCY: Environmental Protection Agency (EPA).

ACTION: Notice.

SUMMARY: EPA has received an application proposing to register new uses for a new pesticide product containing a currently registered active ingredient. Pursuant to the Federal Insecticide, Fungicide, and Rodenticide Act (FIFRA), EPA is hereby providing notice of receipt and opportunity to comment on this application.

DATES: Comments must be received on or before July 5, 2024.

ADDRESSES: Submit your comments, identified by docket identification (ID) number EPA-HQ-OPP-2024-0154, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Director, Registration Division (7505M), Office of Pesticide Programs, Environmental Protection Agency, 1200 Pennsylvania Ave. NW, Washington, DC 20460-0001; telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see guidance provided at https://www.epa.gov/dockets/commenting-epa-dockets.

II. Registration Application

EPA has received the following application to register new uses for a new pesticide product containing a currently registered active ingredient. Pursuant to FIFRA section 3(c)(4) (7 U.S.C. 136a(c)(4)), EPA is hereby providing notice of receipt of this application and an opportunity to comment on the information provided below as well as the current proposed labeling associated with this application. Notice of receipt of this application does not imply a decision by the Agency on this application.

File Symbol: 7969-LNT. Docket ID number: EPA-HQ-OPP-2024-0154. Applicant: BASF Corporation, 26 Davis Drive, Research Triangle Park, North Carolina 27709-3528. Active ingredient: Dicamba. Product type: Herbicide. Proposed use: Dicamba-tolerant cotton and dicamba-tolerant soybeans. Contact: RD. This proposed new use has been coded as an R170, additional food use, which carries a PRIA 5 statutory review time of 17 months from the date that the action gets in-processed. Because EPA expects a large stakeholder interest in this application, EPA also included in the docket the BASF's current proposed labeling associated with the application.

(Authority: 7 U.S.C. 136 et seq.)

Dated: May 29, 2024.
Charles Smith,
Director, Registration Division, Office of Pesticide Programs.

[FR Doc. 2024-12109 Filed 6-3-24; 8:45 am]

BILLING CODE 6560-50-P